DEPARTMENT OF AGRICULTURE

Office of the Secretary

7 CFR Part 2

Animal and Plant Health Inspection Service

7 CFR Part 371

[Docket No. 00-063-1]

Plant Protection Act; Delegation of Authority

AGENCY: Office of the Secretary, USDA.

ACTION: Final rule.

SUMMARY: This document delegates the authority given to the Secretary of Agriculture under the Agricultural Risk Protection Act of 2000 to administer the Plant Protection Act. Authority is delegated from the Secretary of Agriculture to the Assistant Secretary for Marketing and Regulatory Programs (whose title has been changed to the Under Secretary for Marketing and Regulatory Programs); from that official to the Administrator of the Animal and Plant Health Inspection Service; and from the Administrator of the Animal and Plant Health Inspection Service to the Deputy Administrator for Plant Protection and Quarantine.

EFFECTIVE DATE: August 14, 2000.

FOR FURTHER INFORMATION CONTACT: Ms. Cynthia Howard, Chief, Regulatory Analysis and Development, PPD, APHIS, suite 3C63, 4700 River Road Unit 118, Riverdale, MD 20737-1238; (301) 734-5957.

SUPPLEMENTARY INFORMATION: Title IV of the Agricultural Risk Protection Act of 2000 (Pub. L. 106-224), known as the Plant Protection Act, incorporates nine preexisting pest quarantine and exclusion statutes into a comprehensive law aimed at, among other things, augmenting the Secretary's authority to detect, control, and eradicate plant pests and noxious weeds. Section 434 of the Plant Protection Act authorizes the Secretary to issue such regulations and orders as he considers necessary to carry out this title. This rule delegates that authority from the Secretary of Agriculture to the Assistant Secretary for Marketing and Regulatory Programs (as noted previously, now entitled the Under Secretary for Marketing and Regulatory Programs); from that official to the Administrator of the Animal and Plant Health Inspection Service; and from the Administrator of the Animal and Plant Health Inspection Service to the Deputy Administrator for Plant Protection and Quarantine. We will further amend title 7 and amend title 9 of the Code of Federal Regulations in a future rulemaking action to add the Plant Protection Act to our lists of legal authorities and to make any other changes deemed necessary as a result of the enactment of this law.

This rule relates to internal agency management. Therefore, this rule is exempt from the provisions of Executive Order 12866 and 12988. Moreover, pursuant to 5 U.S.C. 553, notice of proposed rulemaking and opportunity for comment are not required for this rule, and it may be made effective less than 30 days after publication in the Federal Register. In addition, under 5 U.S.C. 804, this rule is not subject to congressional review under the Small Business Regulatory Enforcement Fairness Act of 1996, Pub. L. 104-121. Finally, this action is not a rule as defined by 5 U.S.C. 601 et seq., the Regulatory Flexibility Act, and thus is exempt from the provisions of that Act.

List of Subjects

7 CFR Part 2

Authority delegations (Government agencies).

7 CFR Part 371

Organization and functions (Government agencies).

Accordingly, 7 CFR parts 2 and 371 are amended as follows:

PART 2—DELEGATIONS OF AUTHORITY BY THE SECRETARY OF AGRICULTURE AND GENERAL OFFICERS OF THE DEPARTMENT

1. The authority citation for part 2 continues to read as follows:

Authority: Sec. 212(a), Pub. L. 103-354, 108 Stat. 3210, 7 U.S.C. 6912(a)(1); 5 U.S.C. 301; Reorganization Plan No. 2 of 1953, 3 CFR 1949-1953 Comp., p. 1024.

Subpart C—Delegations of Authority to the Deputy Secretary, the Under Secretaries and Assistant Secretaries

2. Section 2.22 is amended by adding a new paragraph (a)(2)(xlvi) to read as follows:

§ 2.22 Assistant Secretary for Marketing and Regulatory Programs.

(a) * * *

(2) * * *

(xlvi) Plant Protection Act (Title IV, Pub. L. 106-224, 114 Stat. 438, 7 U.S.C. 7701-7772).

* * * * *

Subpart N—Delegations of Authority by the Assistant Secretary for Marketing and Regulatory Programs

3. Section 2.80 is amended by adding a new paragraph (a)(51) to read as follows:

§ 2.80 Administrator, Animal and Plant Health Inspection Service.

(a) * * *

(51) Plant Protection Act (Title IV, Pub. L. 106-224, 114 Stat. 438, 7 U.S.C. 7701-7772).

* * * * *

PART 371—ORGANIZATION, FUNCTIONS, AND DELEGATIONS OF AUTHORITY

4. The authority citation for part 371 continues to read as follows:

Authority: 5 U.S.C. 301.

5. Section 371.3 is amended by adding a new paragraph (b)(2)(xv) to read as follows:

§ 371.3 Plant Protection and Quarantine.

* * * * *

(b) * * *

(2) * * *

(xv) Plant Protection Act (Title IV, Pub. L. 106-224, 114 Stat. 438, 7 U.S.C. 7701-7772).

* * * * *

For Part 2, Subpart C:
Dated: August 8, 2000.
Dan Glickman,
Secretary of Agriculture.
P For Part 2, Subpart N:
Dated: July 20, 2000.
Michael V. Dunn,
Under Secretary for Marketing and Regulatory Programs.
For Part 371:
Dated: July 17, 2000.
Craig A. Reed,
Administrator, Animal and Plant Health Inspection Service.

[FR Doc. 00-20611 Filed 8-11-00; 8:45 am]

BILLING CODE 3410-34-P